ENVIRONMENTAL PROTECTION AGENCY

[ER-FRL-6635-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 12, 2002 (67 FR 17992).

Draft EISs

ERP No. D-COE-E35086-FL Rating EC2, Fort Pierce Shore Protection Project, Future Dredging of Capron Shoal, Implementation, St. Lucie County, FL.

Summary: EPA has environmental concerns regarding the direct and indirect consequences of this proposal which will require additional information to determine if the unavoidable losses will be appropriately mitigated.

ERP No. D-DOE-L08063-WA Rating EC2, Plymouth Generating Facility, Construction and Operation of a 307-megawatt (MW) Natural Gas-Fired Combined Cycle Power Generation Facility on a 44.5 Acre Site, Conditional Use/Special Use Permit Issuance, Benton County, WA.

Summary: EPA identified environmental concerns with the proposed project based on its contribution to significant cumulative visibility degradation in the Columbia River Gorge National Scenic Area and at Mount Hood. EPA recommended that the EIS be revised to include a more comprehensive air quality analysis.

ERP No. D-NOA-E91011-00 Rating LO, Northeast Skate Complex Fishery Management Plan, Implementation of Management Measures, Magnuson-Stevens Fishery Conservation and Management Act, New England Fishery Management Council.

Summary: EPA has no objection to the proposal, but made suggestions on enhancing the efficacy of the study fleet and on multi-species zone closures.

ERP No. D-NOA-E91012-00 Rating LO, Atlantic Surfclam and Ocean Quahog Fishery Management Plan Amendment 13, Implementation, US Exclusive Economic Zone along the Atlantic Seaboard from Maine through North Carolina.

Summary: EPA expressed no objection to Amendment 13, but made suggestions for periodic stock assessment monitoring; for reducing clam dredge bycatch; and, for determining gear effects on fauna.

ERP No. DS-COE-H32002-00 Rating LO, Missouri River Fish and Wildlife Mitigation Project to Restore Fish and Wildlife Habitat Losses Resulting from Construction, Operation and Maintenance of the Missouri River Bank Stabilization and Navigation Project (BSNP), Missouri River, Sioux City, Iowa to the Mouth near St. Louis, NB, KS and MO.

Summary The Draft Supplemental EIS for this project was adequate and considered all appropriate environmental impacts. Comments made on the DSEIS consisted of suggestions to improve the presentation or organization of data to ease the reader's understanding.

ERP No. DS-UAF-K11076-00 Rating LO, Airborne Laser (ABL) Program to Conduct Test Activities at Kirtland Air Force Base (AFB) and White Sands Missile Range/Holloman AFB, New Mexico and Edwards AFB and Vandenberg AFB CA.

Summary: EPA expressed a lack of objection on the proposed action but requested clarification on the applicability of this project to the Emergency Planning and Community Right-to-Know Act, the Pollution Prevention Act and Executive Order 13148 for ammonia, chlorine and sulfuric acid.

Final EISs

ERP No. F-BIA-K39071-00 Truckee River Water Quality Settlement Agreement-Federal Water Right Acquisition, Implementation, Truckee River, Placer County, CA and Washoe, Storey and Lyon Counties, NV.

Summary: EPA commended the Truckee River Water Quality Settlement Agreement signatories' work to permanently improve Truckee River water quality and reduce violations of water quality standards. EPA encouraged them to continue to work with EPA in achieving full compliance with water quality standards. The FEIS adequately addresses our concerns.

ERP No. F-DOE-G06012-00, Technical Area 18 (TA-18) Relocation of Capabilities and Materials at the Los Almos National Laboratory (LANL), Operational Activities involve Research in and the Design, Development, Construction, and Application of Experiments on Nuclear Criticality, NM, NV and ID.

Summary: EPA has no objections to the selection of the preferred alternative since EPA comments on the draft document have been adequately responded to.

ERP No. F-FHW-E40786-FL, I-4 Corridor Improvements, Upgrading the Safety and Mobility of the existing I-4 from west of FL-528 (Bee Line Expressway) Interchange in Orange County to east of FL-472 Interchange in Volusia County, Funding, U.S. Army COE Section 10 and 404 and NPDES Permits Issuance, Orange, Seminole, and Volusia Counties, FL.

Summary: EPA continues to have environmental concerns about the extent and mitigation of related socio-economic impacts. EPA suggests that a schedule for construction and operation of all project components be documented in the Record of Decision to ensure that alternative project considerations are consistent with comprehensive review procedures under NEPA.

ERP No. F-FRC-E03009-00, Patriot Project, Construction and Operation of Mainline Expansion and Patriot Extension in order to Transport 510.000 dekatherms per day (dth/day) of Natural Gas, TN, VA and NC.

Summary: EPA has environmental concerns regarding the need for better documentation regarding cumulative and secondary impacts, environmental justice issues, sampling and analysis of potentially contaminated sediments at Mud Creek, and pipeline safety.

ERP No. FS-COE-E34030-FL, Central and Southern Florida Project, Indian River Lagoon-South Feasibility Study, Additional Information concerning Selection of Plan, Alternative 6, Restoration of the Southern Indian River Lagoon and the St. Lucie Estuary Ecosystem, Martin, St. Lucie and Okeechobee Counties, FL.

Summary: EPA supports the positive water quality and habitat benefits which should result from the proposed IRLS plan.

Dated: November 12, 2002.
Joseph C. Montgomery,
Director, NEPA Compliance Division, Office of Federal Activities.

[FR Doc. 02-29052 Filed 11-14-02; 8:45 am]

BILLING CODE 6560-50-P